DEPARTMENT OF STATE

[Public Notice: 12018]

Determination Pursuant to the Foreign Missions Act

The Embassy of Venezuela and its consular posts at Washington, DC and New York, NY formally ceased conducting diplomatic and consular activities in the United States on January 5, 2023. In accordance with Section 205(c) of the Foreign Missions Act (22 U.S.C. 4305(c)) and until further notice, the Department of State's Office of Foreign Missions has assumed sole responsibility for ensuring the protection and preservation of the property of the referenced missions, including but not limited to all real and tangible property, furnishings, archives, and financial assets of the Venezuelan Embassy and its consular posts in the United States, effective at 12:00 p.m. on February 6, 2023.

The Permanent Mission of Venezuela to the Organization of the American States also ceased conducting its activities effective January 5, 2023. In accordance with Section 205(c) of the Foreign Missions Act (22 U.S.C. 4305(c)) and until further notice, the Department of State's Office of Foreign Missions has assumed sole responsibility for ensuring the protection and preservation of the official residence of the Permanent Representative of Venezuela to the Organization of American States, including but not limited to all real and tangible property, furnishings, and archives within such residence, and any associated financial assets in the United States, effective at 12:00 p.m. on February 6, 2023.

In exercise of these custodial responsibilities, and pursuant to the authority vested in the Secretary of State by the laws of the United States including the Foreign Missions Act (22 U.S.C. 4301 et seq.) and delegated pursuant to Department of State Delegation of Authority No. 214, dated September 30, 1994, I further determine that entry or access to the following locations and facilities is strictly prohibited unless prior authorization is granted by the Office of Foreign Missions:

• 7 E 51ST ST, New York, NY (Consulate General)

• 2443-2445 Massachusetts Ave. NW, Washington, DC (COM Residence)

• 2409 California ST NW, Washington, DC (Chancery Annex)

• 2437 California ST NW, Washington, DC (Diplomatic Staff Residence)

• 1099 30TH ST NW, Washington, DC (Chancery)

• 2712 32nd ST NW, Washington, DC (Residence of Permanent Representative to the OAS)

Rebecca E. Gonzales,
Director, Office of Foreign Missions, Department of State.

[FR Doc. 2023-06825 Filed 3-31-23; 8:45 am]

BILLING CODE 4711-07-P